DEPARTMENT OF AGRICULTURE

Animal and Plant Health Inspection Service

7 CFR Part 319

[Docket No. 98-062-3]

Update of Nursery Stock Regulations; Correction

AGENCY: Animal and Plant Health Inspection Service, USDA.

ACTION: Final rule; correction.

SUMMARY: We are correcting an error in the rule portion of a final rule that amended the regulations for importing nursery stock to require additional certifications for imported niger seed and lilac, to reflect changes in plant taxonomy and pest distributions, and to make various changes to the requirements for postentry quarantine of imported plants. The final rule was published in the Federal Register on August 20, 2003, and was effective on September 19, 2003.

EFFECTIVE DATE: September 19, 2003.

FOR FURTHER INFORMATION CONTACT: Mr. William Thomas, Import Specialist, Phytosanitary Issues Management Team, PPQ, APHIS, 4700 River Road Unit 140, Riverdale, MD 20737-1236; (301) 734-5214.

SUPPLEMENTARY INFORMATION: On August 20, 2003, we published in the Federal Register (68 FR 50039-50048, Docket No. 98-062-2) a final rule that amended the regulations for importing nursery stock to require additional certifications for imported niger seed and lilac, to reflect changes in plant taxonomy and pest distributions, and to make various changes to the requirements for postentry quarantine of imported plants.

In the rule portion of the final rule, § 319.37-8, in paragraph (g), we provided an address in Riverdale, MD, to which requests for the guidelines established by the International Plant Protection Convention of the United Nations' Food and Agriculture Organization for conducting pest risk assessments may be sent. The office that handles these requests has been transferred to another location, but we inadvertently did not update the address in the final rule. This document corrects that error.

In FR Doc. 03-21304, published on August 20, 2003 (68 FR 50039-50048), make the following correction: On page 50047, in the third column, in § 319.37-8(g), correct “Permits and Risk Assessment, Commodity Risk Analysis Branch, 4700 River Road Unit 133, Riverdale, MD 20737” to read “Center for Plant Health Science and Technology, Plant Epidemiology and Risk Assessment Laboratory, 1017 Main Campus Drive, Suite 2500, Raleigh, NC 27606”.

Done in Washington, DC, this 17th day of October, 2003.
Kevin Shea,
Acting Administrator, Animal and Plant Health Inspection Service.

[FR Doc. 03-26784 Filed 10-22-03; 8:45 am]

BILLING CODE 3410-34-P